DEPARTMENT OF COMMERCE

National Oceanic and Atmospheric Administration

50 CFR Part 648

[Docket No. 250326-0054]

RIN 0648-XE313

Fisheries of the Northeastern United States; Mid-Atlantic Blueline Tilefish and Golden Tilefish Fisheries; 2025-2027 Golden Tilefish Specifications and 2025 Blueline Tilefish Specifications

AGENCY: National Marine Fisheries Service (NMFS), National Oceanic and Atmospheric Administration (NOAA), Commerce.

ACTION: Proposed rule; request for comments.

SUMMARY: In this action, NMFS proposes specifications for the 2025 fishing year for the golden tilefish and blueline tilefish fisheries north of the North Carolina/Virginia border and projects specifications for the 2026 and 2027 golden tilefish fishery. The proposed action is necessary to establish allowable harvest levels and other management measures to prevent overfishing while allowing optimum yield, consistent with the Magnuson-Stevens Fishery Conservation and Management Act (Magnuson-Stevens Act) and the Tilefish Fishery Management Plan (FMP).

DATES: Comments must be received on April 16, 2025.

ADDRESSES: You may submit comments on this document, identified by NOAA-NMFS-2025-0018, by any of the following methods:

• Electronic Submission: Submit all electronic public comments via the Federal e-Rulemaking Portal. Go to https://www.regulations.gov and enter NOAA-NMFS-2025-0018 in the Search box. Click on the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

Copies of the supporting documents for these proposed specifications are available from Dr. Christopher M. Moore, Executive Director, Mid-Atlantic Fishery Management Council, 800 North State Street, Suite 201, Dover, DE 19901. These documents are also accessible via the internet at https://www.mafmc.org.

FOR FURTHER INFORMATION CONTACT: Matthew Rigdon, matthew.rigdon@noaa.gov, 978-281-9336.

SUPPLEMENTARY INFORMATION:

Background

The golden tilefish and blueline tilefish fisheries north of the North Carolina/Virginia border are managed under the Tilefish Fishery Management Plan (FMP), which outlines the process for establishing annual specifications. The Tilefish FMP requires the Mid-Atlantic Fishery Management Council (Council) to recommend acceptable biological catch (ABC), annual catch limit (ACL), annual catch target (ACT), total allowable landings (TAL), and other management measures for the commercial and recreational sectors of the fisheries. The Council's Scientific and Statistical Committee (SSC) provides ABC recommendations for both species to the Council to derive these catch limits. The Council makes recommendations to NMFS that cannot exceed the SSC's ABC recommendation. The Council's recommendations must include supporting documentation concerning the environmental, economic, and social impacts of the recommendations. NMFS reviews these recommendations and, if they are approved, publishes the specifications in the Federal Register.

Proposed Specifications

This action proposes to institute primarily status quo blueline tilefish management measures and specifications for 2025, with a lower commercial TAL reduced by the commercial overage in 2024. Consistent with the recommendations of the Council, we set specifications for 2019-2021 based on a 2017 benchmark stock assessment of the blueline tilefish population along the entire East Coast conducted through the Southeast Data, Assessment, and Review (SEDAR) process. On the basis of the Council's recommendation, we continued status quo measures for 2022-2024, as no new data or information was available to suggest changes (87 FR 66245; November 3, 2022). The Council has recommended continued blueline tilefish status quo measures (adjusted for the 2024 commercial overage) for a single additional year as the SEDAR operational stock assessment for blueline tilefish is currently ongoing with results expected in 2025. This new assessment would inform specifications for 2026 and future fishing years. Preliminary analysis indicates commercial landings exceeded the 2024 ACL by 5,975 pounds (lb; 2.7 metric tons (mt)). The regulations require an overage to be deducted in the following year. The resulting proposed specifications recommended are summarized in table 1.

Table 1—Proposed Blueline Tilefish Specifications for 2025 With 2024 Specifications for Comparison
Specification | 2024 | 2025
ABC—North of NC/VA line | 100,520 lb (45.6 mt) | 100,520 lb (45.6 mt).
Recreational ACL | 73,380 lb (33.3 mt) | 73,380 lb (33.3 mt).
Recreational TAL | 71,912 lb (32.6 mt) | 71,912 lb (32.6 mt).
Commercial ACL | 27,140 lb (12.3 mt) | 27,140 lb (12.3 mt).
Overage Adjustment | −4,470 lb (2.0 mt) | −5,975 lb (−2.7 mt).
Adjusted Commercial ACL | 22,670 lb (10.3 mt) | 21,165 lb (9.6 mt).
Commercial TAL | 22,399 lb (10.2 mt) | 20,894 lb (9.5 mt).

The directed golden tilefish fishery is managed under an individual fishing quota (IFQ) program, with a small amount of non-IFQ catch allowed under an incidental permit. This action would implement 2025 and project 2026 and 2027 specifications for golden tilefish. The Council's recommended 2025-2027 specifications are based on the results of the golden tilefish management track stock assessment completed in 2024. We are implementing a constant-ABC approach, which members of the golden tilefish fishing industry have historically supported, and proposing the specifications for golden tilefish detailed in table 2.

Table 2—Proposed Golden Tilefish Specifications for 2025-2027 With 2024 Specifications for Comparison
Specification | 2024 | 2025-2027
ABC | 1,964,319 lb (891 mt) | 1,878,338 lb (852 mt).
ACL | 1,964,319 lb (891 mt) | 1,878,338 lb (852 mt).
IFQ ACT | 1,763,478 lb (800 mt) | 1,733,109 lb (786 mt).
Incidental ACT | 92,815 lb (42 mt) | 91,216 lb (41 mt).
IFQ TAL | 1,763,478 lb (800 mt) | 1,728,590 lb (784 mt).
Incidental TAL | 75,410 lb (34 mt) | 68,949 lb (31 mt).

This action would not change the landing limits for non-IFQ commercial fisheries. A vessel fishing under a non-IFQ Federal commercial tilefish vessel permit would continue to be prohibited from possessing more than 500 lb (227 kilograms (kg)) of gutted golden tilefish at any time, or 50 percent, by weight, of the total of all species, including golden tilefish, being landed (whichever is less). This landing limit does not apply to a vessel authorized to land golden tilefish under a Tilefish IFQ permit. A vessel fishing under a non-IFQ commercial tilefish permit would also continue to be prohibited from possessing more than 500 lb (227 kg) of gutted blueline tilefish per trip. If 70 percent of the blueline tilefish commercial TAL is landed, the Regional Administrator may reduce the blueline tilefish possession limit to 300 lb (136 kg).

This action would not change the recreational management measures for golden or blueline tilefish. Any vessel used to fish recreationally for golden or blueline tilefish must have the appropriate Federal vessel permit. Boats used to take anglers for hire must have the Charter/Party Tilefish Permit, while private recreational vessels need to have the Private Recreational Tilefish Permit. Both permit types require the submission of vessel trip reports. Additional information about permitting and reporting requirements is available from the Greater Atlantic Regional Fisheries Office's Permits Office at (978) 282-8438 or NMFS.GAR.Permits@noaa.gov.

The 2025 fishing year for golden tilefish and blueline tilefish began on January 1, 2025. The regulations include rollover provisions for both species that allow the fisheries to operate under status quo specifications until new specifications are finalized.

Classification

NMFS is issuing this proposed rule pursuant to section 305(d) of the Magnuson Stevens Act (16 U.S.C. 1855(d)). The reason for using this regulatory authority for this action is that in a previous action taken pursuant to section 304(b) of the Magnuson-Stevens Act (16 U.S.C. 1854(b)), the FMP and implementing regulations created the process by which specifications are developed through a NMFS rulemaking process distinct from that of 304(b). See 50 CFR 648.292. As such, NMFS is issuing this rulemaking pursuant to section 305(d). The NMFS Assistant Administrator has determined that this proposed rule is consistent with the Tilefish FMP, other provisions of the Magnuson-Stevens Act, and other applicable law, subject to further consideration after public comment.

The Magnuson-Stevens Act requires publication of proposed regulations in the Federal Register with a public comment period of 15 to 60 days. NMFS finds that a 15-day comment period for this action provides a reasonable opportunity for public participation in this action pursuant to Administrative Procedure Act section 553(c) (5 U.S.C. 553(c)), while also ensuring that the final specifications are in place as soon as possible, since the 2025 fishing year is already underway. This is a routine specifications action that occurs every year, and stakeholder and industry groups have been involved with the development of this action and have participated in public meetings throughout their development over the past year. A longer comment period here would be contrary to the public interest, as it could extend this rulemaking even further into the 2025 fishing year, increasing confusion in the tilefish industry around current quotas.

This proposed rule has been determined to be not significant for purposes of Executive Order 12866.

The Chief Counsel for Regulation of the Department of Commerce certified to the Chief Counsel for Advocacy of the Small Business Administration that this proposed rule, if adopted, would not have a significant economic impact on a substantial number of small entities.

For Regulatory Flexibility Act purposes, NOAA's National Marine Fisheries Service has established a size standard for small businesses, including their affiliated operations, whose primary industry is commercial fishing (see 50 CFR 200.2). A business primarily engaged in commercial fishing (NAICS code 11411) is classified as small if it is independently owned and operated, is not dominant in its field of operation (including its affiliates), and has combined annual receipts not in excess of $11.0 million for all its affiliated operations worldwide. The Small Business Administration has established size standards for all other major industry sectors in the United States, including defining for-hire fishing firms (NAICS code 487210) as small when their receipts are less than or equal to $8 million.

According to the ownership database, 180 affiliate commercial fishing firms landed golden tilefish and/or blueline tilefish during the 2019-2023 period, with 175 of those business affiliates categorized as small businesses and 5 categorized as large businesses. During this period, 515 primarily for-hire affiliates were identified as potentially affected by this action based on the definitions above. All 515 of these for-hire affiliates were categorized as small businesses.

The proposed specifications are slightly lower for blueline tilefish due to a commercial overage in the prior year and slightly lower for golden tilefish, with the relevant 2025 TALs only 6.7 and 1.9 percent lower, respectively, than in 2024. Recreational measures are not proposed to be changed. These measures are not expected to affect the number or timing of fishing trips for either the commercial or the for-hire sectors of the fishery, and no measures that would have a direct effect on the number, timing, or scope of fishing operations are being changed. Therefore, this action will not have a significant economic impact on a substantial number of small entities. As a result, an initial regulatory flexibility analysis is not required and none has been prepared. This proposed rule contains no information collection requirements under the Paperwork Reduction Act of 1995.

Authority: 16 U.S.C. 1801 et seq.

Dated: March 26, 2025.
Samuel D. Rauch, III,
Deputy Assistant Administrator for Regulatory Programs, National Marine Fisheries Service.

[FR Doc. 2025-05495 Filed 3-31-25; 8:45 am]

BILLING CODE 3510-22-P